DEPARTMENT OF THE INTERIOR

National Park Service

[NPS-WASO-NAGPRA-NPS0039434; PPWOCRADN0-PCU00RP14.R50000]

Notice of Intended Disposition: U.S. Department of Agriculture, Forest Service, Tonto National Forest, Phoenix, AZ

AGENCY: National Park Service, Interior.

ACTION: Notice.

SUMMARY: In accordance with the Native American Graves Protection and Repatriation Act (NAGPRA), the U.S. Department of Agriculture, Forest Service, Tonto National Forest intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after April 16, 2025. If no claim for disposition is received by March 17, 2026, the human remains or cultural items in this notice will become unclaimed human remains or cultural items.

ADDRESSES: Forest Supervisor Neil Bosworth, Tonto National Forest Supervisor's Office, 2324 E McDowell Road, Phoenix, AZ 85006, telephone (602) 469-4981, email neil.bosworth@usda.gov.

SUPPLEMENTARY INFORMATION: This notice is published as part of the National Park Service's administrative responsibilities under NAGPRA. The determinations in this notice are the sole responsibility of the Tonto National Forest, and additional information on the human remains or cultural items in this notice, including the results of consultation, can be found in the related records. The National Park Service is not responsible for the identifications in this notice.

Abstract of Information Available

Based on the information available, human remains representing, at least, one individual have been reasonably identified. The 10 associated funerary objects include flaked stone, ceramic sherds, beads, shells, and one lot of sherds representing one plain ware ceramic vessel. This inhumation burial and associated funerary objects were recovered in February 2024 from an eroding arroyo side wall within archaeological site AR-03-12-02-3211 in Apache Canyon, Gila County, Arizona.

Based on the information available, human remains representing, at least, seven individuals have been reasonably identified. The 35 associated funerary objects include a basalt knife, a pollen sample, and lots of ceramic sherds, flaked stone, ground stone, and faunal bone. The 43 unassociated funerary objects include a ceramic figurine, a projectile point, pollen samples, and lots of ceramic sherds, flaked stone, shell, and faunal bone. Remains of five individuals, not recognized at the time, and all enumerated funerary objects were removed in June 1998 during test excavations of archaeological site AR-03-12-04-1332 in Star Valley, Gila County, Arizona prior to a planned land exchange that did not end up taking place. The other two individuals, who were also not recognized at the time, were removed sometime from May 2001 to March 2002 from archaeological site AR-03-12-04-1449 near Thompson Draw in Gila County, Arizona during test excavations prior to another nearby land exchange. In July 2015 and October 2016, during verification of faunal collections housed at Arizona State Museum, remains consistent with human remains were identified from these two archaeological sites.

Based on the information available, human remains representing, at least, 14 individuals have been reasonably identified. The 57 associated funerary objects include ceramic bowls, a ceramic jar, other ceramic vessels, a shell bead, a bone pendant, stone projectile points, flotation samples, soil samples, and lots of ceramic sherds, flaked stone, ground stone fragments, and faunal bone. The 18 unassociated funerary objects are one turquoise pendant, one shell, two faunal bones, six lots of ceramic sherds, three lots of flaked stone, three lots of shell beads, one lot of ground stone, and one lot of seeds. These individuals and funerary objects were recovered in July 1991 from precontact habitation site AR-03-12-06-595 (also known as AR-03-12-06-298) in Punkin Center, Gila County, Arizona and were transferred to Arizona State Museum in 1993.

Based on the information available, human remains representing, at least, 15 individuals have been reasonably identified. The nine associated funerary objects include a plain ware ceramic jar, a red ware ceramic bowl, another small ceramic bowl, four fragmentary portions of plain ware and red ware ceramic vessels including one jar and three bowls, and two pieces of hematite. From 1993 to 1995, Arizona State University's (ASU) Office of Cultural Resource Management excavated archaeological sites AR-03-12-04-307, AR-03-12-04-1067, AR-03-12-04-1068, AR-03-12-04-1069, AR-03-12-04-1101, AR-03-12-04-1209, and AR-03-12-04-1210 near Payson, Gila County, Arizona prior to a land exchange. Human remains and funerary items were located and removed during these excavations and are housed at ASU's Center for Archaeology and Society Repository.

Based on the information available, human remains representing, at least, 31 individuals have been reasonably identified. The 21 associated funerary objects are one mano, a broken miniature ceramic vessel, six whole ceramic vessels of plain ware and red ware varieties, one broken ceramic vessel, three lot of ceramic sherds, a bone awl fragment, a piece of worked bone, a turquoise pendant, a stone bead, a retouched and utilized flake tool, a tabular knife, a ground stone fragment, a projectile point fragment, and one lot of shell fragments. From 1992 to 1993, Arizona State University's (ASU) Office of Cultural Resource Management excavated archaeological sites AR-03-12-06-1370, AR-03-12-06-1887, AR-03-12-06-1893, AR-03-12-06-1895, AR-03-12-06-1911, and AR-03-12-06-1915 in Tonto Basin, Gila County, Arizona prior to a land exchange. Human remains and funerary items were located and removed during these excavations and are housed at ASU's Center for Archaeology and Society Repository.

Based on the information available, human remains representing, at least, two individuals have been reasonably identified. The 23 associated funerary objects are one complete ceramic vessel, nine partially reconstructible ceramic vessels, five lots of ceramic sherds, four projectile points, one piece of quartz, one turquoise pendant, one shell fragment, and one lot of beads. These inhumation burials and associated funerary objects were recovered in December 2022 from archaeological site AR-03-12-06-219 near Roosevelt Lake in Gila County, Arizona after an inadvertent discovery by campers.

Based on the information available, human remains representing, at least, one individual have been reasonably identified. No associated funerary objects are present. These human remains had been placed on and were also actively eroding from a trench that had been opened during a previous archaeological investigation but never backfilled. These human remains were recovered in October 2023 from archaeological site AR-03-12-06-811 near Tonto Basin in Gila County, Arizona.

Based on the information available, human remains representing, at least, one individual have been reasonably identified. No associated funerary objects are present. This inhumation burial was exposed by erosion in a recreation area within archaeological site AR-03-12-04-2904 near Flowing Springs, Gila County, Arizona. This burial was partially recovered by the Gila County Sherriff's Office in September 2022. TNF Heritage staff recovered the remainder of the burial in October 2022.

Based on the information available, human remains representing, at least, one individual have been reasonably identified. No associated funerary objects are present. This individual was recovered in December 2021 from archaeological site AR-03-12-01-55 on Perry Mesa in Yavapai County, Arizona after an inadvertent discovery by a hiker.

Based on the information available, human remains representing, at least, four individuals have been reasonably identified. No associated funerary objects are present. The six sacred objects/objects of cultural patrimony are six bone whistles or flutes. These human remains and sacred objects/objects of cultural patrimony were recovered in May and June 2021 from suspects' homes and vandalized archaeological site AR-03-12-01-594 in Yavapai County, Arizona during an Archaeological Resources Protection Act (ARPA) investigation.

Based on the information available, human remains representing, at least, one individual have been reasonably identified. The 23 associated funerary objects are two complete ceramic vessels, one small ceramic pinch pot, two ceramic sherds with drill holes, two ceramic handle fragments, two ceramic scoops, one ground stone slab, two fragments of faunal bone (likely avian), one ¾ grooved axe fragment, one awl, one stone, six lots of flaked stone, one lot of basketry fragments, and one lot of corncobs. This individual and associated funerary objects were removed on an unknown date from an unknown archaeological site or sites in the Tonto National Forest and potentially other land jurisdictions. A note with the axe suggests it was removed from an archaeological site northwest of Payson, Gila County, Arizona. Due to uncertainty about the location or locations of removal of other objects, all objects with the human remains are considered to be associated funerary objects.

Based on the information available, human remains representing, at least, two individuals have been reasonably identified. No associated funerary objects are present. One of the two individuals was removed from an unknown archaeological site near Roosevelt Lake in Gila County, Arizona in or around 1995. This individual was confiscated by the Bureau of Land Management (BLM) from a vandalism suspect during an Archaeological Resources Protection Act (ARPA) investigation in the 1990s. The other individual is comprised of a cremation that was removed from an unknown archaeological site on an unknown date, potentially from the Mills Ridge area west of Roosevelt Lake in Gila County, Arizona.

Based on the information available, human remains representing, at least, one individual have been reasonably identified. No associated funerary objects are present. This individual is represented by one permanent right maxillary tooth believed to have come from a child less than nine years of age. This tooth was located during a recent inventory of a secure storage area at the Tonto National Forest Supervisors Office. The date and location of removal are unknown, but it is presumed that removal occurred from within the Tonto National Forest.

Determinations

The Tonto National Forest has determined that:

• The human remains described in this notice represent the physical remains of 81 individuals of Native American ancestry.

• The 178 associated funerary objects and lots of objects described in this notice are reasonably believed to have been placed intentionally with or near individual human remains at the time of death or later as part of the death rite or ceremony.

• The 61 unassociated funerary objects and lots of objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The six sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• The Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico have priority for disposition of the human remains or cultural item described in this notice.

Claims for Disposition

Written claims for disposition of the human remains or cultural items in this notice must be sent to the appropriate official identified in this notice under ADDRESSES. If no claim for disposition is received by March 17, 2026, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after April 16, 2025. If competing claims for disposition are received, the Tonto National Forest must determine the most appropriate claimant prior to disposition. Requests for joint disposition of the human remains or cultural items are considered a single request and not competing requests. The Tonto National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 28, 2025.
Melanie O'Brien,
Manager, National NAGPRA Program.

[FR Doc. 2025-04175 Filed 3-14-25; 8:45 am]

BILLING CODE 4312-52-P